DEPARTMENT OF ENERGY

Federal Energy Regulatory Commission

Combined Notice of Filings #1

Take notice that the Commission received the following electric rate filings:

Docket Numbers: ER10-2374-010; ER12-673-008; ER12-672-008.

Applicants: Puget Sound Energy, Inc., Brea Generation LLC, Brea Power II, LLC.

Description: Notice of Non-Material Change in Status of Puget Sound Energy, Inc., et al.

Filed Date: 3/9/16.

Accession Number: 20160309-5158.

Comments Due: 5 p.m. ET 3/30/16.

Docket Numbers: ER15-1825-003.

Applicants: California Independent System Operator Corporation.

Description: Compliance filing: 2016-03-10 Filing in Compliance With Feb. 24 Order Delaying RSI Effective Date to be effective 5/1/2016.

Filed Date: 3/10/16.

Accession Number: 20160310-5148.

Comments Due: 5 p.m. ET 3/31/16.

Docket Numbers: ER16-540-001.

Applicants: Public Service Company of Colorado.

Description: Tariff Amendment: CSU Deficiency Response #1 to be effective 1/1/2013.

Filed Date: 3/10/16.

Accession Number: 20160310-5100.

Comments Due: 5 p.m. ET 3/31/16.

Docket Numbers: ER16-542-001.

Applicants: Public Service Company of Colorado.

Description: Tariff Amendment: CSU Deficiency Response #2 to be effective 1/1/2015.

Filed Date: 3/10/16.

Accession Number: 20160310-5124.

Comments Due: 5 p.m. ET 3/31/16.

Docket Numbers: ER16-733-000.

Applicants: LQA, LLC.

Description: Supplement to January 15, 2016 LQA, LLC tariff filing.

Filed Date: 3/9/16.

Accession Number: 20160309-5116.

Comments Due: 5 p.m. ET 3/30/16.

Docket Numbers: ER16-750-002.

Applicants: Bethel Wind Farm LLC.

Description: Tariff Amendment: Second Supplement to MBR Application and Request for Expedited Treatment to be effective 3/21/2016.

Filed Date: 3/10/16.

Accession Number: 20160310-5123.

Comments Due: 5 p.m. ET 3/31/16.

Docket Numbers: ER16-897-001.

Applicants: California Independent System Operator Corporation.

Description: Compliance filing: 2016-03-10 Filing in compliance with February 24, 2016 order (CPM_ER16-897) to be effective 3/25/2016.

Filed Date: 3/10/16.

Accession Number: 20160310-5096.

Comments Due: 5 p.m. ET 3/31/16.

Docket Numbers: ER16-910-000.

Applicants: EPP New Jersey Solar, LLC.

Description: Amendment to February 8, 2016 EPP New Jersey Solar, LLC and EPP New Jersey Biogas, LLC tariff filings.

Filed Date: 3/8/16.

Accession Number: 20160308-5262.

Comments Due: 5 p.m. ET 3/29/16.

Docket Numbers: ER16-914-000.

Applicants: Axpo U.S. LLC.

Description: Supplement to February 4, 2015 Axpo U.S. LLC tariff filing.

Filed Date: 3/10/16.

Accession Number: 20160310-5105.

Comments Due: 5 p.m. ET 3/21/16.

Docket Numbers: ER16-1124-000.

Applicants: PJM Interconnection, L.L.C.

Description: § 205(d) Rate Filing: Revised Service Agreement No. 4355; Queue Z2-011 (ISA Assignment) to be effective 12/21/2015.

Filed Date: 3/9/16.

Accession Number: 20160309-5154.

Comments Due: 5 p.m. ET 3/30/16.

Docket Numbers: ER16-1124-001.

Applicants: PJM Interconnection, L.L.C.

Description: Tariff Amendment: Errata to Correct Metadata in Revised Service Agreement No. 4355 to be effective 12/21/2015.

Filed Date: 3/10/16.

Accession Number: 20160310-5034.

Comments Due: 5 p.m. ET 3/31/16.

Docket Numbers: ER16-1125-000.

Applicants: PJM Interconnection, L.L.C.

Description: § 205(d) Rate Filing: Amended ISA No. 3198 and ICSA Nos. 2642 and 2643, Queue No. T157/W4-037 to be effective 9/1/2010.

Filed Date: 3/10/16.

Accession Number: 20160310-5053.

Comments Due: 5 p.m. ET 3/31/16.

Docket Numbers: ER16-1126-000.

Applicants: Tucson Electric Power Company.

Description: § 205(d) Rate Filing: NEC BA Agreement to be effective 5/9/2016.

Filed Date: 3/10/16.

Accession Number: 20160310-5113.

Comments Due: 5 p.m. ET 3/31/16.

Docket Numbers: ER16-1128-000.

Applicants: Southern California Edison Company.

Description: § 205(d) Rate Filing: Service Agreement with AgPower Visalia, LLC to be effective 5/10/2016.

Filed Date: 3/10/16.

Accession Number: 20160310-5121.

Comments Due: 5 p.m. ET 3/31/16.

Docket Numbers: ER16-1129-000.

Applicants: VPI Enterprises, Inc.

Description: Baseline eTariff Filing: Application for Initial Market-Based Rate Tariff and Granting Certain Waivers to be effective 3/11/2016.

Filed Date: 3/10/16.

Accession Number: 20160310-5137.

Comments Due: 5 p.m. ET 3/31/16.

Docket Numbers: ER16-1130-000.

Applicants: DifWind Farms Limited I.

Description: Baseline eTariff Filing: Application for Initial Market-Based Rate Tariff and Granting Certain Waivers to be effective 3/11/2016.

Filed Date: 3/10/16.

Accession Number: 20160310-5138.

Comments Due: 5 p.m. ET 3/31/16.

Docket Numbers: ER16-1131-000.

Applicants: DifWind Farms Limited II.

Description: Baseline eTariff Filing: Application for Initial Market-Based Rate Tariff and Granting Certain Waivers to be effective 3/11/2016.

Filed Date: 3/10/16.

Accession Number: 20160310-5139.

Comments Due: 5 p.m. ET 3/31/16.

Docket Numbers: ER16-1132-000.

Applicants: DifWind Farms Limited V.

Description: Baseline eTariff Filing: Application for Initial Market-Based Rate Tariff and Granting Certain Waivers to be effective 3/11/2016.

Filed Date: 3/10/16.

Accession Number: 20160310-5140.

Comments Due: 5 p.m. ET 3/31/16.

Docket Numbers: ER16-1133-000.

Applicants: PJM Interconnection, L.L.C.

Description: § 205(d) Rate Filing: Original Service Agreement No. 4425; Queue Position #Z2-076 to be effective 2/9/2016.

Filed Date: 3/10/16.

Accession Number: 20160310-5149.

Comments Due: 5 p.m. ET 3/31/16.

Docket Numbers: ER16-1134-000.

Applicants: TransCanada Power Marketing Ltd.

Description: Baseline eTariff Filing: Notice of Succession to be effective 3/10/2016.

Filed Date: 3/10/16.

Accession Number: 20160310-5151.

Comments Due: 5 p.m. ET 3/31/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 10, 2016.
Nathaniel J. Davis, Sr.,
Deputy Secretary.

[FR Doc. 2016-05870 Filed 3-15-16; 8:45 am]

BILLING CODE 6717-01-P